DEPARTMENT OF ENERGY

Federal Energy Regulatory Commission

[Docket No. EC03-46-000, et al.]

El Paso Corporation, et al.; Electric Rate and Corporate Filings

January 17, 2003.

The following filings have been made with the Commission. The filings are listed in ascending order within each docket classification.

1. El Paso Corporation, Limestone Electron Trust, El Paso Tennessee Pipeline Co., El Paso Chaparral Holding Company, El Paso Chaparral Investor, L.L.C., El Paso Chaparral Holding II Company, Chaparral Investors, L.L.C., Mesquite Investors, L.L.C.

[Docket No. EC03-46-000]

Take notice that on January 13, 2003, El Paso Corporation (El Paso), Limestone Electron Trust (Limestone) El Paso Tennessee Pipeline Co. (El Paso Tennessee), El Paso Chaparral Holding Company (Chaparral Holding), El Paso Chaparral Investor, L.L.C. (El Paso Chaparral), El Paso Chaparral Holding II Company (Chaparral Holding II), Chaparral Investors, L.L.C. (Chaparral) and Mesquite Investors, L.L.C. (Mesquite) (jointly, Applicants) filed with the Federal Energy Regulatory Commission an application pursuant to Section 203 of the Federal Power Act seeking authorization to transfer indirect control over the jurisdictional facilities of Chaparral's indirect subsidiaries. Applicants also request expedited consideration of this Application.

Comment Date: February 3, 2003.

2. Dynegy Inc.

[Docket No. EC03-47-000 and ES03-20-000]

Take notice that on January13, 2003, Dynegy Inc. (Dynegy), on behalf of certain of its public utility subsidiaries (Applicants), filed with the Federal Energy Regulatory Commission an application pursuant to Section 203 of the Federal Power Act (FPA) for authorization of a disposition of jurisdictional facilities pursuant to an intra-corporate reorganization. Specifically, Dynegy seeks authorization to create one or more new intermediate holding companies between Dynegy Holdings Inc., and its indirect public utility subsidiaries. Dynegy also requests that the Commission grant Dynegy Power Marketing, Inc., blanket authority pursuant to FPA Section 204 to issue securities and assume obligations or liabilities as guarantor, indorser, surety, or otherwise in respect of any security of another person.

Comment Date: February 3, 2003.

3. Midwest Independent Transmission System Operator, Inc.

[Docket No. ER02-1420-005]

Take notice that on January 10, 2003, American Electric Power on behalf of Southwestern Electric Power Company (SWEPCO) and Public Service Company of Oklahoma (PSO), operating companies of the American Electric Power System (collectively AEP) submitted an updated status of their participation in the Midwest ISO.

Comment Date: January 31, 2003.

4. Duke Energy New Albany, LLC

[Docket No. ER02-171-001]

Take notice that on January 14, 2003, Duke Energy New Albany, LLC (Duke New Albany) tendered for filing its triennial market power analysis in compliance with the Commission Order granting it market-based rate authority in Docket No. ER99-1942-000 on April 15, 1999.

Duke New Albany states that copies of this filing were served upon those parties on the official service list.

Comment Date: February 4, 2003.

5. Entergy Services, Inc.

[Docket No. ER02-2014-006]

Take notice that on January 15, 2003, Entergy Services, Inc., on behalf of the Entergy Operating Companies, Entergy Arkansas, Inc., Entergy Gulf States, Inc., Entergy Louisiana, Inc., Entergy Mississippi, Inc., and Entergy New Orleans, Inc. (collectively Entergy), filed a revised Attachment Q to its Open Access Transmission Tariff. Attachment Q addresses local transmission constraints on the Entergy transmission system and provides a process for generators to participate in short-term bulk power markets without the necessity of a system impact study. Entergy requests an effective date thirty days after the date of any final Commission order approving Entergy's revised Attachment Q.

Comment Date: February 5, 2003.

6. NorthWestern Energy, L.L.C.

[Docket No. ER02-2569-001]

Take notice that on January 14, 2003, The Clark Fork and Blackfoot, L.L.C. (TCFB) (formerly named NorthWestern Energy, L.L.C.) tendered for filing an application for an order accepting its FERC Electric Tariff Original Volume No. 1, granting certain blanket approvals, including the authority to sell electricity, capacity, and ancillary services at market-base rates, and waiving certain regulations of the Commission.

TCFB also filed its FERC Electric Tariff Original Volume No. 1, seeking an effective date of February 13, 2003.

Comment Date: February 4, 2003.

7. Entergy Services, Inc.

[Docket No. ER03-59-002]

Take notice that on January 15, 2003, Entergy Services, Inc., on behalf of Entergy New Orleans, Inc., tendered for filing with the Federal Energy Regulatory Commission (Commission), a compliance Interconnection and Operating Agreement with Duke Energy Orleans, LLC, in response to the Commission's December 16, 2002, order in Entergy Services, Inc., 101 FERC ¶ 61,289.

Comment Date: February 5, 2003.

8. Southern California Edison Company

[Docket No. ER03-142-001]

Take notice that on January 15, 2003, Southern California Edison Company (SCE) tendered for filing revised rate sheets for its Transmission Owner Tariff (TO Tariff), FERC Electric Tariff, Substitute First Revised Original Volume No. 6, and for certain of its Existing Transmission Contracts with the Arizona Electric Power Cooperative Inc., the city of Colton, California, and the California Department of Water Resources. The purpose of this filing is to comply with the Federal Energy Regulatory Commission's Order Accepting for Filing and Suspending Proposed Tariff and Contract Amendments and Establishing Hearing and Settlement Judge Procedures dated December 31, 2002 (Southern California Edison Company, 101 FERC ¶ 61,404).

SCE states that copies of this filing were served upon the Service List compiled by the Secretary in this docket.

Comment Date: February 5, 2003.

9. PJM Interconnection, L.L.C.

[Docket No. ER03-406-000]

Take notice that on January 10, 2003, PJM Interconnection, L.L.C. (PJM) submitted for filing amendments to the PJM Open Access Transmission Tariff and the Amended and Restated Operating Agreement of PJM Interconnection, L.L.C., to establish a new annual auction process for Financial Transmission Rights (formerly Fixed Transmission Rights) and an allocation mechanism for the auction revenues. On January 13, 2003, PJM amended its January 10th filing and make conforming changes to Attachment K of the PJM Tariff consistent with the amendments to the Appendix to Attachment K of the PJM Tariff filed on January 10, 2003.

PJM requests an effective date of March 12, 2003 for the amendments. PJM also states that copies of this filing were served upon all PJM members and each state electric utility regulatory commission in the PJM region.

Comment Date: January 31, 2003.

10. American Transmission Company LLC

[Docket No. ER03-413-000]

Take notice that on January 14, 2003, American Transmission Company LLC (ATCLLC) tendered for filing a Generation-Transmission Interconnection Agreement between ATCLLC and Wisconsin Public Service Corporation. ATCLLC requests an effective date of December 15, 2002.

Comment Date: February 4, 2003.

11. Klondike Wind Power LLC

[Docket No. ER03-416-000]

Take notice that on January 15, 2003, Klondike Wind Power LLC filed with the Federal Energy Regulatory Commission (Commission) a Notice of Succession informing the Commission that on December 19, 2002, the name of West Valley Generation LLC had been changed to Klondike Wind Power LLC in accordance with 18 CFR 35.16.

Comment Date: February 5, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1924 Filed 1-27-03; 8:45 am]

BILLING CODE 6717-01-P